NUCLEAR REGULATORY COMMISSION

[Docket No. 040-07455]

Notice of Availability of Environmental Assessment and Finding of No Significant Impact for License Amendment to Source Materials License No. Sma-1018, Approving the Final Status Survey Plan for Section 2 of the Whittaker Corporation's Facility in Transfer, PA

AGENCY: Nuclear Regulatory Commission.

ACTION: Issuance of Environmental Assessment and Finding of No Significant Impact for License Amendment.

FOR FURTHER INFORMATION CONTACT: Marjorie McLaughlin, Health Physicist, Decommissioning Branch, Division of Nuclear Materials Safety, Region I, 475 Allendale Road, King of Prussia, Pennsylvania 19406-1415; telephone (610) 337-5240; fax number (610) 337-5269; or by e-mail: mmm3@nrc.gov.

SUPPLEMENTARY INFORMATION:

I. Introduction

The U.S. Nuclear Regulatory Commission (NRC) is considering the issuance of a license amendment to Source Materials License No. SMA-1018. This license is held by Whittaker Corporation (the Licensee), for its Whittaker facility (the Facility), located at 99 Crestview Drive in Transfer, Pennsylvania. Issuance of the amendment would approve a Final Status Survey Plan (FSSP) for Section 2 of the Facility. The Licensee requested this action in a letter dated October 5, 2005. The NRC has prepared an Environmental Assessment (EA) in support of this proposed action in accordance with the requirements of Title 10 Code of Federal Regulation (CFR), part 51 (10 CFR part 51). Based on the EA, the NRC has concluded that a Finding of No Significant Impact (FONSI) is appropriate with respect to the proposed action. The amendment will be issued following the publication of this FONSI and EA in the Federal Register.

II. Environmental Assessment

Identification of Proposed Action

The proposed action would grant the Licensee's October 5, 2005, license amendment request, thereby approving the FSSP for Section 2 of the Facility. Specifically, the FSSP describes the Licensee's methods and procedures for determining whether that portion of the site currently meets the radiological criteria for release for unrestricted use specified in Subpart E of 10 CFR part 20, or if additional remediation is required. NRC approval of the FSSP does not constitute termination of the license or release of the site for unrestricted use. Instead, it would allow the Licensee to obtain the information required by the NRC in support of any later request to release the Facility (or a portion of the Facility) for unrestricted use.

License No. SMA-1018 was issued on December 15, 1969, pursuant to 10 CFR part 40, and has been amended periodically since that time. The license authorized the possession and use of unsealed source material (natural thorium and natural uranium) contained in ores used for minerals processing and as a contaminant that was isolated by the processing of scrap metal. The Facility originally consisted of a plant and a slag waste storage area. In 1974, the Licensee ceased licensed operations at the Facility, and initiated decommissioning of plant equipment and buildings. Waste slag, raw materials, feed-metal scrap, and contaminated building materials that were generated from the decontamination activities were placed in the slag storage area. The portion of the property housing the plant was released for unrestricted use in 1975, following the performance of a confirmatory survey by the NRC. An additional plant building was decommissioned in 1983 and released for unrestricted use in 1985. The plant is an active facility under a new owner (Greenville Metals), who is not associated with the Licensee. Greenville Metals processes and refines scrap and other metals to produce metal alloys and conversion products. Greenville Metals does not utilize NRC-licensed radioactive material, and is separated from the Whittaker property by metal fencing.

The Facility that the Licensee plans to decommission consists of the slag area, located on a 5.9 acre strip of land, that is characterized by four sections according to topography and site use. Section 2 is in the center, bordered by Section 3 to the north, the boundary fence with the Greenville Metals plant to the west, a ravine to the south, and floodplain and the Shenango River to the east. Section 2 contained the highest-activity slag, most of which has now been excavated and disposed in accordance with the Licensee's procedures that were approved by NRC in the license amendment dated June 10, 1999. The Facility is located within an industrial park. There are no buildings remaining at the Facility (with the exception of temporary trailers supplied by the decommissioning contractor), and the surrounding area is primarily rural.

In July 2004, the Licensee initiated excavation and survey of the slag and waste materials in Section 2 of the Facility. On September 12, 2005, the Licensee commenced shipping the material to an authorized radioactive waste disposal site. The proposed action is to approve the Licensee's plan for conducting a radiological survey of Section 2 of the Facility. The Licensee will perform the survey to determine if Section 2 meets the site-specific Derived Concentration Guideline Levels (DCGLs), approved by the NRC on September 20, 2005 (70 FR 54779). These DCGLs describe the maximum amount of residual radioactivity on building surfaces, equipment, materials, and soils that will satisfy the NRC requirements in Subpart E of 10 CFR part 20 for unrestricted release of the Facility.

Need for the Proposed Action

The Licensee is no longer using licensed materials at the Facility. In accordance with the requirements of 10 CFR 40.42(h), the Licensee must complete decommissioning of the site no later than 24 months following the initiation of decommissioning. The Licensee will use the proposed FSSP to determine if Section 2 of the Facility meets the NRC criteria for release for unrestricted use, or if additional decommissioning activities are required.

Environmental Impacts of the Proposed Action

The survey described in the proposed Section 2 FSSP follows the guidance contained in NUREG-1575, Rev 1, “Multi-Agency Radiation Survey and Site Investigation Manual” (MARSSIM). The proposed FSSP divides Section 2 into Class 1 and Class 2 survey units, based on the expected remaining radioactive contamination. Under the proposed action, each survey unit will receive a walkover radiation survey of the soil surface (one-hundred percent of the area for the Class 1 units and a minimum of ten percent of the area for the Class 2 units). The walkover surveys will be performed using a two-inch by two-inch (2″ x 2″) Sodium-Iodide (NAI) radiation detector. The proposed FSSP also provides for obtaining 11 discrete soil samples from each survey unit. The sample locations would be determined using a random-start grid pattern, in accordance with the MARSSIM guidance. The samples would consist of filling one-gallon bags with soil from the remediated area, and having the soil analyzed by gamma spectroscopy to determine the radiological composition. In addition, the proposed FSSP includes the performance of exposure rate measurements at each soil sample location at a height of one meter (m).

The proposed action would have minimal effect on environmental resources because it involves passive surveys and the removal of only a small amount of soil from an area that was previously-impacted by licensed operations. The proposed action would not result in the release of radioactivity to the air or water. The proposed action also would not authorize release of Section 2 of the Facility for unrestricted use. Based on its review, the NRC staff has determined that the proposed FSSP is in compliance with approved NRC standards, as described in NUREG-1575, Rev.1.

Area groundwater is chemically contaminated with trichloroethylene (TCE). The origin of this contamination is being investigated by the Pennsylvania Department of Environmental Protection (PADEP). PADEP has indicated that it believes the contamination is being leached onto the Facility property from surrounding industrial sites. The Licensee is working with PADEP and the surrounding industries to identify and remediate the TCE source and the contamination. The proposed action will not result in the release of TCE to the environment. The NRC staff has found no other radiological or non-radiological activities in the area that could result in cumulative environmental impacts. Based on its review, the staff concluded that the proposed action will not have a significant effect on the quality of the human environment.

Environmental Impacts of the Alternatives to the Proposed Action

The only alternative to the proposed action is the no-action alternative, under which the staff would deny the amendment request for the proposed FSSP. This alternative would result in no environmental impacts, but would prohibit the performance of a FSS for Section 2 of the Facility. This no-action alternative is not feasible because it conflicts with 10 CFR 20.1402, requiring licensees to verify that residual radioactivity meets the radiological unrestricted release criteria. The Licensee cannot demonstrate that the site meets the decommissioning criteria without performing the FSS. The licensee must verify that the decommissioning criteria are met before it can request release of Section 2 of the Facility for unrestricted use. Additionally, denying the amendment request would prevent the Licensee from completing decommissioning in the timeframe required by 10 CFR 40.42(h). The environmental impacts of the proposed action are minimal, and the no-action alternative is accordingly not further considered.

Conclusion

The NRC staff has concluded that the proposed action is consistent with NRC guidance and regulations. Because the proposed action will not significantly impact the quality of the human environment, the NRC staff concludes that the proposed action is the preferred alternative.

Agencies and Persons Consulted

NRC provided a draft of the EA to PADEP on January 24, 2006. On February 15, 2006, PADEP responded by e-mail. The State agreed with the conclusions of the EA, and provided some typographical comments on the EA document, and two specific comments on the FSSP:

Comment 1: PADEP asked whether the contractor, NRC, will use to perform a confirmatory survey of Section 2 of the Facility will review and comment on the FSSP.

Resolution: NRC provided the proposed FSSP to the NRC contractor for review and comment on February 21, 2006. Comments were received on March 2, 2006. NRC provided the comments to the Licensee in a Request for Additional Information on March 29, 2006. The Licensee revised the proposed FSSP in response to the comments, and provided the revised FSSP in a letter dated May 15, 2006. The staff reviewed the revised FSSP for the preparation of this EA.

Comment 2: PADEP asked how the Licensee has verified the belief stated in the proposed FSSP that Section 2 of the Facility has been excavated to native soil, and that there is not additional contamination at a greater depth.

Resolution: NRC discussed the comment with the Licensee and PADEP. The bottom of the excavation is characterized by foundry sand in most locations, and by river rock and coarse soil in others. The Licensee believes, and NRC concurs that the river rock and coarse soil is native soil. In areas exposing foundry sand, the Licensee will perform surveys to verify that contamination is not present at greater depths. PADEP indicated that they are satisfied with this response.

The NRC staff has determined that the proposed action has minimal environmental impacts, and will not affect listed species or critical habitat. Therefore, no consultation is required under Section 7 of the Endangered Species Act. The NRC staff has also determined that the proposed action is not the type of activity that has the potential to cause effects on historic properties. Therefore, no further consultation is required under Section 106 of the National Historic reservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for license amendment and supporting documentation, are available electronically at the NRC's Electronic Reading Room at http://www.nrc.gov/reading-rm/adams.html. From this site, you can access the NRC's Agencywide Document Access and Management System (ADAMS), which provides text and image files of NRC's public documents. The documents related to this action are listed below, along with their ADAMS accession numbers.

1. Initial Amendment Request with Final Status Survey Plan, dated October 5, 2005 (ML052900082);

2. Request for Additional Information (RAI), dated October 18, 2005 (ML052910472);

3. Section 2 FSSP, Revision 1, dated November 14, 2005 (ML053190091);

4. Additional RAI, dated January 9, 2006 (ML060090311);

5. Section 2 FSSP, Revision 2, dated January 31, 2006 (ML060300532);

6. Comments on the Section 2 FSSP from the Oak Ridge Institute for Science and Education, dated March 2, 2006 (ML060690388);

7. Telephone Log, dated March 22, 2006 (ML060810706);

8. Additional RAI, dated March 29, 2006 (ML060880199);

9. Section 2 FSSP, Revision 3, dated May 15, 2006 (ML061420467);

10. Title 10 Code of Federal Regulations, Part 20, Subpart E, “Radiological Criteria for License Termination;”

11. Title 10 Code of Federal Regulations, Part 40. 42, “Expiration and Termination of Licenses and Decommissioning of Sites and Separate Buildings or Outdoor Areas;”

12. Title 10 Code of Federal Regulations, Part 51, “Environmental Protection Regulations for Domestic Licensing and Related Regulatory Functions;”

13. NUREG-1575, Rev 1, “Multi-Agency Radiation Survey and Site Investigation Manual”

If you do not have access to ADAMS, or if there are problems in accessing the documents located in ADAMS, contact the NRC's Public Document Room (PDR) Reference staff at 1-800-397-4209, 301-415-4737, or by e-mail to pdr@nrc.gov. These documents may also be viewed electronically on the public computers located at the NRC's PDR, O 1 F21, One White Flint North, 11555 Rockville Pike, Rockville, MD 20852. The PDR reproduction contractor will copy documents for a fee.

Dated at King of Prussia, Pennsylvania this 15th day of June, 2006.
For the Nuclear Regulatory Commission.
Marie Miller,
Chief, Decommissioning Branch, Division of Nuclear Materials Safety, Region I.

[FR Doc. E6-9850 Filed 6-21-06; 8:45 am]

BILLING CODE 7590-01-P